SMALL BUSINESS ADMINISTRATION

[Disaster Declaration #13829 and #13830]

Illinois Disaster Number IL-00043

AGENCY: Small Business Administration.

ACTION: Amendment 1.

SUMMARY: This is an amendment of the Presidential declaration of a major disaster for the State of Illinois (FEMA—4157—DR), dated 11/26/2013.

Incident: Severe storms, straight-line winds, and tornadoes.

Incident Period: 11/17/2013.

Effective Date: 01/24/2014.

Physical Loan Application Deadline Date: 02/03/2014.

EIDL Loan Application Deadline Date: 08/26/2014.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of Illinois, dated 11/26/2013 is hereby amended to extend the deadline for filing applications for physical damages as a result of this disaster to 02/03/2014.

All other information in the original declaration remains unchanged.

(Catalog of Federal Domestic Assistance Numbers 59002 and 59008).

James E. Rivera,
Associate Administrator, for Disaster Assistance.

[FR Doc. 2014-02120 Filed 1-31-14; 8:45 am]

BILLING CODE 8025-01-P